DEPARTMENT OF ENERGY

Federal Energy Regulatory Commission

Combined Notice of Filings # 1

December 23, 2008.

Take notice that the Commission received the following electric corporate filings:

Docket Numbers: EC09-31-000.

Applicants: Snowflake White Mountain Power, LLC, Renegy Holdings, LLC, AZ Biomass, LLC.

Description: Joint Application for Authorization of Proposed Transaction under Section 203 of the Federal Power Act, and Request for Waiver of Certain Filing Requirements and Confidential Treatment.

Filed Date: 12/18/2008.

Accession Number: 20081218-5094.

Comment Date: 5 p.m. Eastern Time on Thursday, January 08, 2009.

Docket Numbers: EC09-32-000.

Applicants: Exelon Corporation.

Description: Exelon Corp submits application for approval of transaction including its aquisition of voting securities of NRG Energy, Inc etc.

Filed Date: 12/18/2008.

Accession Number: 20081222-0001.

Comment Date: 5 p.m. Eastern Time on Thursday, January 08, 2009.

Take notice that the Commission received the following exempt wholesale generator filings:

Docket Numbers: EG09-20-000.

Applicants: PowerSmith Cogeneration Project, LP.

Description: Notice of Self-Certification as an Exempt Wholesale Generator of PowerSmith Cogeneration Project, LP.

Filed Date: 12/22/2008.

Accession Number: 20081222-5042.

Comment Date: 5 p.m. Eastern Time on Monday, January 12, 2009.

Take notice that the Commission received the following electric rate filings:

Docket Numbers: ER00-1026-018; ER99-2284-011; ER98-2186-017; ER99-1773-011; ER99-1761-007; ER09-38-001; ER98-2185-016; ER01-1315-007; ER01-2401-013; ER98-2184-016; ER01-751-013; ER00-33-013; ER99-1228-008; ER05-442-005; ER97-2904-009.

Applicants: Indianapolis Power & Light Company; AEE 2 LLC; AES Alamitos, LLC, AES Creative Resources LP, AES Eastern Energy, LP, AES Energy Storage, LLC, AES Huntington Beach, L.L.C., AES Ironwood LLC, AES Red Oak LLC, AES Redondo Beach, L.L.C., AES Placerita Inc., Condon Wind Power, LLC, Lake Benton Power Partners LLC, Mountain View Power Partners, LLC, Storm Lake Power Partners II LLC.

Description: AES Parties submits updated market power analysis of the Central Region in support of their continued authority to sell energy, capacity and ancillary services under their respective market based rate tariffs et al.

Filed Date: 12/18/2008.

Accession Number: 20081222-0013.

Comment Date: 5 p.m. Eastern Time on Tuesday, February 17, 2009.

Docket Numbers: ER00-2173-009; ER00-3219-007.

Applicants: Northern Indiana Public Service Company; Energy USA-TPC Corp.

Description: Northern Indiana Public Service Co et al. submits their triennial market power analysis in compliance with FERC's Order No. 697.

Filed Date: 12/18/2008.

Accession Number: 20081222-0015.

Comment Date: 5 p.m. Eastern Time on Tuesday, February 17, 2009.

Docket Numbers: ER00-3251-018.

Applicants: Exelon Generation Company, LLC.

Description: Updated Market Power Analysis.

Filed Date: 12/22/2008.

Accession Number: 20081222-5199.

Comment Date: 5 p.m. Eastern Time on Friday, February 20, 2009.

Docket Numbers: ER00-3767-005; ER05-841-002.

Applicants: Praxair, Inc.; Praxair Plainfield, Inc.

Description: Praxair, Inc et al. submit a request for a Petition for Determination of Category 1 Seller Status and Amendments to Market Based Rate Tariffs in compliance with Order 697 and 697-A under ER00-3767 et al.

Filed Date: 12/18/2008.

Accession Number: 20081222-0014.

Comment Date: 5 p.m. Eastern Time on Thursday, January 08, 2009.

Docket Numbers: ER01-1266-011; ER01-1268-012; ER01-1269-011; ER01-1270-013; ER01-1271-012; ER01-1273-012; ER01-1277-011; ER01-1278-013; ER02-1213-010.

Applicants: Mirant Bowline, LLC; Mirant Canal, LLC; Mirant Chalk Point, LLC; Mirant Delta, LLC; Mirant Kendall, LLC; Mirant Mid-Atlantic, LLC; Mirant Potomac River, LLC; Mirant Potrero, LLC; Mirant Energy Trading, LLC.

Description: Mirant Entities submits Notice of Non-Material Change in Status to report the acquisition of 10 percent or greater of the outstanding publicly traded shares of the Mirant Entities indirect parent company, Mirant Corporation etc.

Filed Date: 12/17/2008.

Accession Number: 20081219-0104.

Comment Date: 5 p.m. Eastern Time on Wednesday, January 07, 2009.

Docket Numbers: ER04-157-031.

Applicants: Bangor Hydro-Electric Company.

Description: Connecticut Light and Power Company et al. submit revised tariffs sheets to a comprehensive, long term transmission service agreement between the NU Companies and the Connecticut Municipal Electric Energy Cooperative.

Filed Date: 12/18/2008.

Accession Number: 20081222-0008.

Comment Date: 5 p.m. Eastern Time on Thursday, January 08, 2009.

Docket Numbers: ER06-754-005.

Applicants: Auburndale Power Partners, L.P.

Description: Auburndale Power Partners, Limited Partnership's Notice of Non-Material Change in Status.

Filed Date: 12/19/2008.

Accession Number: 20081219-5057.

Comment Date: 5 p.m. Eastern Time on Friday, January 09, 2009.

Docket Numbers: ER06-758-006; ER06-759-005.

Applicants: Selkirk Cogen Partners, L.P., Chambers Cogeneration Limited Partnership; Selkirk Cogen Partners L.P.

Description: Notice of Non-Material Change in Status of Chambers Cogeneration Limited Partnership et al.

Filed Date: 12/22/2008.

Accession Number: 20081222-5169.

Comment Date: 5 p.m. Eastern Time on Monday, January 12, 2009.

Docket Numbers: ER07-189-006; ER07-190-006; ER07-191-006; ER07-192-004.

Applicants: Duke Energy Indiana, Inc.; Duke Energy Kentucky, Inc.; Duke Energy Ohio, Inc.; Duke Energy Business Services, Inc.

Description: Duke Energy Indiana, Inc., et. al. submits Updated Market Power Analysis.

Filed Date: 12/17/2008.

Accession Number: 20081217-5161.

Comment Date: 5 p.m. Eastern Time on Tuesday, February 17, 2009.

Docket Numbers: ER07-1071-005; ER07-1072-005.

Applicants: PJM Interconnection L.L.C.; Virginia Electric and Power Company.

Description: Virginia Electric and Power Company submits a revised and executed Wholesale Distribution Service Agreement Emporia Hydropower Limited Partnership etc.

Filed Date: 12/18/2008.

Accession Number: 20081222-0010.

Comment Date: 5 p.m. Eastern Time on Thursday, January 08, 2009.

Docket Numbers: ER08-1206-001.

Applicants: Southwest Power Pool, Inc.

Description: Southwest Power Pool, Inc. submits an unexecuted Service Agreement for Network Integration Transmission Service.

Filed Date: 12/17/2008.

Accession Number: 20081219-0098.

Comment Date: 5 p.m. Eastern Time on Wednesday, January 07, 2009.

Docket Numbers: ER08-1297-002; ER02-2559-009; ER01-1071-013; ER08-1293-002; ER08-1294-002; ER06-9-008; ER05-1281-008; ER03-34-012; ER02-1903-010; ER06-1261-007; ER03-1104-009; ER03-1105-009; ER08-197-006; ER98-3566-018; ER98-4222-014; ER08-250-003; ER07-1157-004; ER07-174-007; ER08-1296-002; ER07-875-003; ER08-1300-002; ER07-904-004.

Applicants: Ashtabula Wind, LLC; Backbone Mountain Windpower, LLC; Badger Windpower, LLC; Crystal Lake Wind, LLC; Crystal Lake Wind II, LLC; FPL Energy Burleigh County Wind, LLC; FPL Energy Duane Arnold, LLC; FPL Energy Hancock County Wind, LLC; FPL Energy Marcus Hook, L.P.; FPL Energy Mower County, LLC; FPL Energy North Dakota Wind, LLC; FPL Energy North Dakota Wind II, LLC; FPL Energy Oliver Wind II, LLC; FPL Energy Power Marketing, Inc.; Lake Benton Power Partners II, LLC ; Langdon Wind, LLC; Logan Wind Energy LLC; Osceola Windpower, LLC; Osceola Windpower II, LLC; Peetz Table Wind Energy, LLC; Story Wind, LLC; FPL Energy Point Beach, LLC.

Description: Ashtabula Wind, LLC et al. submits revisions to their market-based rate schedules.

Filed Date: 12/17/2008.

Accession Number: 20081219-0092.

Comment Date: 5 p.m. Eastern Time on Wednesday, January 07, 2009.

Docket Numbers: ER08-1556-001.

Applicants: Midwest Independent Transmission System.

Description: Midwest Independent Transmission System Operator, Inc. submits revisions to its Open Access Transmission and Energy Markets Tariff to comply with FERC's 11/18/08 Order.

Filed Date: 12/18/2008.

Accession Number: 20081222-0009.

Comment Date: 5 p.m. Eastern Time on Thursday, January 08, 2009.

Docket Numbers: ER09-9-001.

Applicants: Carolina Power & Light Company.

Description: Carolina Power & Light Co submits First Revised Sheet No. 78 et al. to Rate Schedule FERC No. 180, effective 12/1/08.

Filed Date: 12/17/2008.

Accession Number: 20081219-0096.

Comment Date: 5 p.m. Eastern Time on Wednesday, January 07, 2009.

Docket Numbers: ER09-355-001.

Applicants: Southwest Power Pool, Inc.

Description: Southwest Power Pool, Inc submits Substitute Original Service Agreement 1689 to FERC Electric Tariff, Fifth Revised Volume 1 as Exhibit I etc.

Filed Date: 12/18/2008.

Accession Number: 20081222-0007.

Comment Date: 5 p.m. Eastern Time on Thursday, January 08, 2009.

Docket Numbers: ER09-423-000.

Applicants: Southern Company Services, Inc.

Description: Alabama Power Company et al submits a Network Integration Transmission Service Agreement under the Open Access Transmission Tariff, FERC Electric Tariff, Fourth Revised Volume 5.

Filed Date: 12/17/2008.

Accession Number: 20081219-0094.

Comment Date: 5 p.m. Eastern Time on Wednesday, January 07, 2009.

Docket Numbers: ER09-424-000.

Applicants: American Electric Power Service Corporation.

Description: The American Electric Power Service Corp et al. submits Second Revised Sheet No. 1 et al. to FERC Electric Tariff, Sixth Revised Volume No. 1, effective 12/1/08.

Filed Date: 12/17/2008.

Accession Number: 20081219-0095.

Comment Date: 5 p.m. Eastern Time on Wednesday, January 07, 2009.

Docket Numbers: ER09-425-000.

Applicants: Southwest Power Pool, Inc.

Description: Southwest Power Pool, Inc submits Second Revised Sheet No. 129 et al. to FERC Electric Tariff, Fifth Revised Volume No. 1, effective 2/15/09.

Filed Date: 12/17/2008.

Accession Number: 20081219-0093.

Comment Date: 5 p.m. Eastern Time on Wednesday, January 07, 2009.

Docket Numbers: ER09-426-000.

Applicants: Carolina Power & Light Company.

Description: Carolina Power & Light Company submits a Network Integration Transmission Service Agreement and Network Operating Agreement with Haywood Electric Membership Corporation, et al.

Filed Date: 12/18/2008.

Accession Number: 20081222-0012.

Comment Date: 5 p.m. Eastern Time on Thursday, January 08, 2009.

Docket Numbers: ER09-427-000.

Applicants: Public Service Electric & Gas Company.

Description: Public Service Electric and Gas Company submits revised tariffs sheets to Schedule 12—Appendix of PJM Open Access Tariff.

Filed Date: 12/18/2008.

Accession Number: 20081222-0011.

Comment Date: 5 p.m. Eastern Time on Thursday, January 08, 2009.

Docket Numbers: ER09-428-000.

Applicants: Pacific Gas and Electric Company.

Description: Pacific Gas and Electric Co submits new agreements with the Western Area Power Administration.

Filed Date: 12/18/2008.

Accession Number: 20081222-0017.

Comment Date: 5 p.m. Eastern Time on Thursday, January 08, 2009.

Docket Numbers: ER09-437-000.

Applicants: New York State Reliability Council, L.L.C.

Description: New York State Reliability Council, L.L.C.'s revised Installed Capacity Requirement for the New York Control Area.

Filed Date: 12/19/2008.

Accession Number: 20081219-5156.

Comment Date: 5 p.m. Eastern Time on Friday, January 09, 2009.

Take notice that the Commission received the following open access transmission tariff filings:

Docket Numbers: OA08-27-001.

Applicants: E.ON U.S. LLC.

Description: E. ON U.S. LLC submits a revised Attachment K to the LG&E/KU joint Open Access Transmission Tariff.

Filed Date: 12/17/2008.

Accession Number: 20081219-0099.

Comment Date: 5 p.m. Eastern Time on Wednesday, January 07, 2009.

Docket Numbers: OA08-59-003.

Applicants: Entergy Services, Inc.

Description: Entergy Operating Companies submits compliance filing of Entergy Services, Inc.

Filed Date: 12/17/2008.

Accession Number: 20081219-0106.

Comment Date: 5 p.m. Eastern Time on Wednesday, January 07, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-31270 Filed 1-2-09; 8:45 am]

BILLING CODE 6717-01-P